FEDERAL RETIREMENT THRIFT INVESTMENT

Board Meeting

October 22, 2018, 8:30 a.m., (In-Person)

Open Session

1. Approval of the Minutes of the September 17, 2018 Board Meeting

2. Investment Manager Annual Service Review

3. Monthly Reports

(a) Participant Activity

(b) Legislative

4. Quarterly Reports

(c) Investment Performance

(d) Budget Review

5. Mid-Year Financial Audit

6. ORM Annual Report/FEVS Update

7. OEP Annual Report/TSP Health Report

8. Audit/Security Update

Closed Session

Material covered by 5 U.S.C. (c)(9)(B).

Contact Person for More Information: Kimberly Weaver, Director, Office of External Affairs, (202) 942-1640.

Dated: October 12, 2018.
Dharmesh Vashee,
Deputy General Counsel, Federal Retirement Thrift Investment Board.

[FR Doc. 2018-22675 Filed 10-17-18; 8:45 am]

BILLING CODE 6760-01-P